DEPARTMENT OF HOUSING AND URBAN DEVELOPMENT

[Docket No. FR-5683-N-17]

Notice of Submission of Proposed Information Collection to OMB: FHA Insured Mortgage Loan Servicing Involving the Loss Mitigation Programs

AGENCY: Office of the Chief Information Officer, HUD.

ACTION: Notice.

SUMMARY: The proposed information collection requirement described below has been submitted to the Office of Management and Budget (OMB) for review, as required by the Paperwork Reduction Act. The Department is soliciting public comments on the subject proposal.

FHA insurance is an important source of mortgage credit for low and moderate-income borrowers and neighborhoods. Providing assistance, as needed, to enable families to cure their delinquencies and retain their homes stabilizes neighborhoods that might otherwise suffer from deterioration and problems associated with vacant and abandoned properties. Avoidance of foreclosure and the resultant costs also serve to further stabilize the mortgage insurance premiums charged by FHA and the Federal budget receipts generated from those premiums. The information collection request for OMB review seeks to extend OMB 2502-0589, a currently established OMB collection, for an additional three years. Agency form numbers, if applicable: HUD-1 Settlement Statement, HUD-27011 Single Family Application for Insurance Benefits, HUD-90035 Information/Disclosure, HUD-90041 Request for Variance, Pre-foreclosure sale procedure, HUD-90045 Approval to Participate, HUD-90051 Sale Contract Review, HUD-90052 Closing Worksheet, HUD-PA-426 How to Avoid Foreclosure.

DATES: Comments Due Date: April 4, 2013.

ADDRESSES: Interested persons are invited to submit comments regarding this proposal. Comments should refer to the proposal by name and/or OMB approval Number (2502-0589) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: FHA Insured Mortgage Loan Servicing Involving the Loss Mitigation Programs.

OMB Approval Number: 2502-0589.

Form Numbers: HUD 27011, HUD 90051, HUD 9539, HUD 50002, HUD 90045, HUD 90035, HUD 90041, HUD 90052, HUD 91022, HUD 50012.

Description of the need for the information and proposed use:

FHA insurance is an important source of mortgage credit for low and moderate-income borrowers and neighborhoods. Providing assistance, as needed, to enable families to cure their delinquencies and retain their homes stabilizes neighborhoods that might otherwise suffer from deterioration and problems associated with vacant and abandoned properties. Avoidance of foreclosure and the resultant costs also serve to further stabilize the mortgage insurance premiums charged by FHA and the Federal budget receipts generated from those premiums.

The information collection request for OMB review seeks to extend OMB 2502-0589, a currently established OMB collection, for an additional three years. Agency form numbers, if applicable: HUD-1 Settlement Statement, HUD-27011 Single Family Application for Insurance Benefits, HUD-90035 Information/Disclosure, HUD-90041 Request for Variance, Pre-foreclosure sale procedure, HUD-90045 Approval to Participate, HUD-90051 Sale Contract Review, HUD-90052 Closing Worksheet, HUD-PA-426 How to Avoid Foreclosure.

| Number of respondents | Annual responses | × | Hours per response | = | Burden hours
Reporting Burden | 303,718 | 3.849 |  | 1.300 |  | 1,520,216

Total Estimated Burden Hours: 1,520,216.

Status: This is an extension without change of a currently approved collection.

Authority: Section 3507 of the Paperwork Reduction Act of 1995, 44 U.S.C. 35, as amended.

Dated: February 27, 2013.
Colette Pollard,
Department Reports Management Officer, Office of the Chief Information Officer.

[FR Doc. 2013-05075 Filed 3-4-13; 8:45 am]

BILLING CODE 4210-67-P